DEPARTMENT OF TRANSPORTATION

Federal Railroad Administration

[Docket Number FRA-2017-0082]

Notice of Application for Approval To Discontinue or Modify a Railroad Signal System

Under part 235 of Title 49 of the Code of Federal Regulations (CFR) and 49 U.S.C. 20502(a), this document provides the public notice that on August 21, 2017, the Denver Regional Transportation District Commuter Rail (RTDC) petitioned the Federal Railroad Administration (FRA) seeking approval to discontinue or modify a signal system. FRA assigned the petition Docket Number FRA-2017-0082.

Applicant: Regional Transportation District Commuter Rail, Mr. Allen W. Miller, Senior Manager, Commuter Rail, Contracted Services, 1560 Broadway, Suite 600, Denver, Colorado 80202.

The Regional Transportation District (RTD) is the owner of the line segment and BNSF Railway (BNSF) and the National Railroad Passenger Corporation (Amtrak) are the operators. RTDC seeks to modify the Automatic Block Signal (ABS) and Traffic Control System (TCS) on the BNSF and RTDC line segment between the 41D and 43D derails, switch 29, and the 8S signal, on the East and West Yard Track segments near Denver Union Station (DUS) Interlocking, between MP 0.00 and MP 0.49.

The application states that BNSF uses this 500-foot line segment between the 41D and 43D derails, switch 29, and the 8S signal primarily for locomotive switching moves and Amtrak operates on this line segment to move in and out of DUS Tracks #4 and #5 for passenger operations.

The current signal system design uses the 41D, East yard track, and 43D West yard track, switch indication lights to govern traffic in advance of the derails on the yard tracks and in approach to the 8S signal at DUS Interlocking. The 41D and 43D derails and switch 29 are interlocked with the 8S signal at DUS Interlocking. The violation of the 8S signal, toward DUS, is safeguarded by the 49D derail.

Disconnecting the circuitry of the 41D and 43D derail and switch 29 from 8S signal at DUS Interlocking is proposed in order to comply with provisions of 49 CFR part 236. The application goes on to describe the work that would be done if approved. All existing home signals will be retained. The 41D and 43D derails, switch 29, and associated switch indication lights will remain powered but will be controlled and monitored independently from the DUS Interlocking. The movement of switch 29 will be electrically tied to the 41D and 43D derails. Positioning of switch 29 will be determined by the position of the corresponding derail, aligning to the derail which is in the non-derailing position and locked. Although the switch and derails will be removed from the DUS Interlocking logics, a minimum of two indications from switch 29—switch position and the locked indication—will be established in order to provide safe routing through DUS between the platform and beyond the 41D and 43D derails in both directions. The design will be fail-safe. Sufficient provision will exist to protect unauthorized access to DUS Interlocking via the 49D derail to protect against any train that may violate the 8S signal at DUS Interlocking. As an additional safety measure a minimum of 100 feet of center gauge restraining rail will be installed south of the 49D derail, toward DUS, to protect against incursion into the RTDC tracks.

The reasons given by RTDC for the proposed changes are improvements to reliability and safety, expedited train movements, and compliance with 49 CFR part 236 for present train operations.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 2, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-19685 Filed 9-15-17; 8:45 am]

BILLING CODE 4910-06-P